OFFICE OF PERSONNEL MANAGEMENT

Privacy Act of 1974; New Computer Matching Program Between the Office of Personnel Management and Social Security Administration

AGENCY: Office of Personnel Management (OPM).

ACTION: Notice—computer matching between the Office of Personnel Management and the Social Security Administration.

SUMMARY: In accordance with the Privacy Act of 1974 (5 U.S.C. 552a), as amended by the Computer Matching and Privacy Protection Act of 1988 (Pub. L. 100-503), Office of Management and Budget (OMB) Guidelines on the Conduct of Matching Programs, 54 FR 25818 (June 19, 1989), and OMB Circular No. A-130, Management of Federal Information Resources (revised November 28, 2000), the Office of Personnel Management (OPM) is publishing notice of its new computer matching program with the Social Security Administration (SSA).

DATES: OPM will file a report of the subject matching program with the Committee on Homeland Security and Governmental Affairs of the Senate, the Committee on Oversight and Government Reform of the House of Representatives and the Office of Information and Regulatory Affairs, Office of Management and Budget (OMB). The matching program will begin 30 days after the Federal Register notice has been published or 40 days after the date of OPM's submissions of the letters to Congress and OMB, whichever is later. The matching program will continue for 18 months from the beginning date and may be extended an additional 12 months thereafter. Subsequent matches will run until one of the parties advises the other in writing of its intention to reevaluate, modify and/or terminate the agreement.

ADDRESSES: Send comments to Sean Hershey, Chief, Management Information Branch, Office of Personnel Management, Room 4316, 1900 E Street, NW., Washington, DC 20415.

FOR FURTHER INFORMATION CONTACT: James Sparrow on (202) 606-1803.

SUPPLEMENTARY INFORMATION:

A. General

The Privacy Act, as amended (5 U.S.C. 552a), establishes the conditions under which computer matching involving the Federal Government could be performed and adding certain protections for individuals applying for and receiving Federal benefits. The Privacy Act regulates the use of computer matching by Federal agencies when records in a system of records are matched with other Federal, State, or local government records. Among other things, it requires Federal agencies involved in computer matching programs to:

(1) Negotiate written agreements with the other agency for agencies participating in the matching programs;

(2) Obtain the approval of the match agreement by the Data Integrity Boards (DIB) of the participating Federal agencies;

(3) Furnish detailed reports about matching programs to Congress and OMB;

(4) Notify applicants and beneficiaries that their records are subject to matching;

(5) Verify match findings before reducing, suspending, termination or denying an individual's benefits or payments.

B. OPM Computer Matches Subject to the Privacy Act

We have taken action to ensure that all of OPM's computer matching programs comply with the requirements of the Privacy Act, as amended.

Notice of Computer Matching Program, Office of Personnel Management (OPM) With the Social Security Administration (SSA)

A. Participating Agencies

OPM and SSA.

B. Purpose of the Matching Program

The purpose of this agreement is to establish the terms, conditions and safeguards for disclosure of Social Security benefit information to OPM via direct computer link for the administration of certain programs by OPM's Center for the Retirement and Insurance Services Program. OPM is legally required to offset specific benefits by a percentage of benefits (i.e., Disability Annuitants, Children Survivor Annuitants and Spousal Survivor Annuitants) payable under Title II of the Social Security Act. This matching activity will enable OPM to compute benefits at the correct rate and determine eligibility for these benefits.

C. Authority for Conducting the Matching Program

Section 8461(h) of title 5 of the United States Code.

D. Categories of Records and Individuals Covered by the Match

Under the matching program, OPM will match SSA's DIB and payment date against OPM's records of retirees receiving a FERS disability annuity. The purpose of the matching program is to identify person receiving both a FERS disability annuity and a DIB under section 223 of the Social Security Act, 42 U.S.C. 423, in order to apply OPM offsets. Under FERS, 5 U.S.C. 8452(a)(2)(A), for any month in which an annuitant is entitled to both a FERS disability annuity and to a DIB, the FERS annuity shall be computed as follows: the FERS disability annuity is reduced, for any month during the first year after the individual's FERS disability annuity commences or is restored by 100% of the individual's assumed Social Security DIB for such month, and, for any month occurring during a period other than the period described above, by 60% of the individual's assumed Social Security DIB for such month.

OPM will provide SSA with an extract from the Annuity Master File and from pending claims snapshot records via the File Transfer Management System (FTMS). The extracted file will contain identifying information concerning the child survivor annuitant for whom OPM needs information concerning receipt of SSA child survivor benefits: full name, SSN, date of birth, and type of information requested, as required to extract data from the SSA State Verification and Exchange System files for Title II records. Each record on the OPM file will be matched to SSA's records to identify FERS child survivor annuitants who are receiving SSA CIBs. The Federal Register designation for the MBR is 60-0090 (SSA/ORSIS). OPM's system of records involved in this matching program is designated OPM/Central-1, Civil Service Retirement and Insurance Records. For records from OPM/Central-1, notice was provided by the publication of the system of records in the Federal Register at 64 FR 54930 (Oct. 8, 1999), as amended at 65 FR 25775 (May 3, 2000).

OPM's records of surviving spouses who may be eligible to receive the FERS Supplementary Annuity will be matched against SSA's mother's or father's insurance benefit and/or disabled widow(er)'s insurance benefit records. If the surviving spouse is receiving one of the above-described Social Security benefits, he or she is not eligible to receive the FERS Supplementary Annuity. FERS, 5 U.S.C. 8442(f) provides that a survivor who is entitled to a survivor's annuity and who meets certain other statutory requirements shall also be entitled to a supplementary Annuity. To be eligible to receive a supplementary annuity for a given month, the surviving spouse of a deceased FERS annuitant must be eligible for a FERS survivor annuity, be under age 60, be an individual who would be entitled to widow's or widower's insurance benefits under the requirements of sections 202(e) and 402(f), based on the wages and self employment income of the deceased annuity (determined as of the date of the annuitant's death, as if the survivor had attained age 60 and otherwise satisfied necessary requirements for widow's or widower's insurance benefits. See 5 U.S.C. 8442(f)(4)(B)). The individual must not be eligible for Social Security mother's or father's insurance benefits or disabled widow(er)'s insurance benefits based on the deceased annuitant's wages and self-employment income.

E. Privacy Safeguards and Security

The Privacy Act (5 U.S.C. 552a(o)(1)(G)), requires that each matching agreement specify procedures for ensuring the administrative, technical and physical security of the records matched and the results of such programs. All Federal agencies are subject to: the Federal Information Security Management Act of 2002 (FISMA), 44 U.S.C. 3541 et seq.; related Office of Management and Budget (OMB) circulars and memoranda (e.g., OMB Circular A-130 and OMB M-06-16); National Institute of Science and Technology (NIST) directives; and the Federal Acquisition Regulations (FAR)). These laws, circulars, memoranda, directives and regulations include requirements for safeguarding Federal information systems and personally identifiable information used in Federal agency business processes, as well as related reporting requirements. OPM and SSA recognize that all laws, circulars, memoranda, directives and regulations relating to the subject of this agreement and published subsequent to the effective date of this agreement must also be implemented if mandated.

FISMA requirements apply to all Federal contractors and organizations or sources that possess or use Federal information, or that operate, use, or have access to Federal information systems on behalf of an agency. OPM will be responsible for oversight and compliance of their contractors and agents. Both OPM and SSA reserve the right to conduct onsite inspection to monitor compliance with FISMA regulations.

F. Inclusive Dates of the Match

The matching program shall become effective upon the signing of the agreement by both parties to the agreement and approval of the agreement by the Data Integrity Boards of the respective agencies, but no sooner than 40 days after notice of this matching program is sent to Congress and the Office of Management and Budget or 30 days after publication of this notice in the Federal Register, whichever is later. The matching program will continue for 18 months from the effective date and may be extended for an additional 12 months thereafter, if certain conditions are met.

U.S. Office of Personnel Management.
Linda M. Springer,
Director.

[FR Doc. E8-38 Filed 1-7-08; 8:45 am]

BILLING CODE 6325-38-P